DEPARTMENT OF JUSTICE

Notice of Lodging of Consent Decree, Pursuant to the Comprehensive Environmental Response, Compensation, and Liability Act

In accordance with Departmental policy, 28 CFR 50.7, notice is hereby given that a proposed consent decree in United States v. Angus Macdonald, et al., Civil Action No. 3:01CV00101, was lodged with the United States Court for the Western District of Virginia on March 1, 2002.

The consent decree resolves claims pursuant to section 107 of the Comprehensive Environmental Response, Compensation, and Liability Act (“CERCLA”), 42 U.S.C. 9607(a), for past response costs of more than $3,493,000 incurred for response activities to address the release at the Everdure, Inc. Superfund Site, located in Orange County near Rapidan, Va. The United States filed a complaint in this matter in October, 2001, against four current and former owner/operators at the Site: Amy B. Macdonald, deceased, a former owner of the Site; her son, Angus Macdonald; Majorie T. Macdonald; and Glengary Development Corporation (“GDC”), a corporate entity that currently owns all but 9 acres of the Site. The proposed decree settles that case, and requires the Defendants to sell the GDC property and to pay sixty percent (60%) of the net proceeds from any sale of all or part of that property into a Site Special Account for future work at the Site or reimbursement of the Superfund.

The Department of Justice will receive, for a period of thirty (30) days from the date of this publication, comments relating to the proposed consent decree. As a result of the discovery of anthrax contamination at the District of Columbia mail processing center in mid-October, 2001, the delivery of regular first-class mail sent through the United States Postal Service has been disrupted. Consequently, comments which are addressed to the Department of Justice in Washington, DC and sent by regular, first-class mail through the U.S. Postal Service are not expected to be received in a timely manner. Therefore, comments should be addressed to the Assistant Attorney General for the Environment and Natural Resources Division, Department of Justice, and sent (1) c/o Patti Miller, EPA Region III, 1650 Arch Street, Philadelphia, PA 19103; and/or (2) by facsimile to (202) 353-0296; and/or (3) by overnight delivery, other than through the U.S. Postal Service, to Chief, Environmental Enforcement Section, United States Department of Justice, 1425 New York Avenue, NW 13th Floor, Washington, DC 20005. Each communication should refer on its face to United States v. Angus Macdonald, et al., DOJ # 90-11-3-06957.

The proposed consent decree may be examined at the office of the United States Attorney for the Western District of Virginia, 105 Franklin Road, SW., Suite One, Roanoke, VA; and the Region III Office of the Environmental Protection Agency, 1650 Arch St., Philadelphia, PA 19103. A copy of the proposed consent decree may be obtained by faxing a request to Tonia Fleetwood, Department of Justice Consent Decree Library, fax number (202) 616-6584; phone confirmation (202) 514-1547. In requesting a copy, please forward the request and a check in the amount of $9.00 (25 cents per page reproduction cost) payable to the U.S. Treasury, referencing the DOJ Consent Decree Library, United States v. Angus Macdonald, et al., DOJ # 90-11-3-06957, to the first-class mail address at EPA Region III or the overnight mail address at DOJ, 1425 New York Avenue, listed above.

Robert Brook,
Assistant Section Chief, Environmental Enforcement Section, Environment and Natural Resources Division.

[FR Doc. 02-6499 Filed 3-18-02; 8:45 am]

BILLING CODE 4410-15-M